DEPARTMENT OF THE INTERIOR

Fish and Wildlife Service

50 CFR Part 17

Endangered and Threatened Wildlife and Plants, Notice of Reopening of Comment Period on the Proposed Endangered Status of the Cowhead Lake tui chub

AGENCY: Fish and Wildlife Service, Interior.

ACTION: Proposed rule, notice of reopening of comment period.

SUMMARY: The Fish and Wildlife Service (Service), pursuant to the Endangered Species Act of 1973, as amended (Act), provides notice of the reopening of the comment period for the proposed endangered status for the Cowhead Lake tui chub (Gila bicolor vaccaceps). The comment period has been reopened by request from signatories of a conservation agreement for the Cowhead Lake tui chub, including private landowners, the California Department of Fish and Game (CDFG), and the U.S. Department of the Interior, Bureau of Land Management (BLM).

DATES: Comments from all interested parties must be received by February 16, 2000. All comments received by the closing date will be considered in the final decision on this proposal.

ADDRESSES: Written comments, materials, data, and reports concerning this proposal should be sent to the Field Supervisor, Sacramento Fish and Wildlife Office, W 2605, 2800 Cottage Way, Sacramento, California 95825. Comments and materials received will be available for public inspection by appointment during normal business hours at the above address.

FOR FURTHER INFORMATION CONTACT: Catherine Hibbard at the address above (telephone 916/414-6600, facsimile 916/414-6710).

SUPPLEMENTARY INFORMATION

Background

The Cowhead Lake tui chub is a fish in the minnow family and can be primarily distinguished from other tui chubs by the number of bony projections in the gills. It is now found only in pump canals in the lakebed of Cowhead Lake and in Cowhead Slough in extreme northeastern Modoc County, California. Prior to hydrological modification of the Cowhead Lake watershed, including drainage of the lake for agricultural purposes, Cowhead Lake is thought to have contained the majority of the Cowhead Lake tui chub population, especially in wet years. The entire population now appears to occur only the 5.4 kilometers (3.4 miles) of Cowhead Slough and pump canals in the bed of Cowhead Lake. Habitat protection is required to conserve this subspecies, which is threatened throughout its range by a variety of impacts including loss of habitat from agricultural activities, risk of disease and contamination, loss of genetic variability, and naturally occurring random events.

On March 30, 1998, the Service published in the Federal Register a proposed rule to list the Cowhead Lake tui chub as endangered (63 FR 15152). The original comment period closed on May 29, 1998 but the comment period was reopened at the request of private citizens and organizations (63 FR 33033-33034). The second comment period closed on August 3, 1998 after which the Service, BLM, CDFG, and private landowners in the Cowhead Lake watershed signed a Conservation Agreement (C.A.) for the Cowhead Lake tui chub on October 22, 1999. The actions and goals committed to in the C.A. help to ensure the long-term survival of the subspecies by balancing current practices in the watershed with the long-term needs of the subspecies.

The Conservation Strategy of the C.A. includes two phases. Phase I, expected to be in effect for two years from signing, involves studies of the distribution, abundance, life history and habitat preferences of Cowhead Lake tui chubs and hydrology of the Cowhead Lake watershed. Phase II will build on what has been learned in Phase I to implement specific actions to improve the quality and availability of habitat for the subspecies. Phase II is estimated to be in effect for 10 years and includes monitoring to determine the effectiveness of conservation actions. The Conservation Strategy has an adaptive management approach; conservation actions will be modified when monitoring results indicate that such modification is necessary to conserve the Cowhead Lake tui chub.

The signatories of the C.A. have requested that the Service reopen the public comment period so the Service may also consider the conservation measures of the C.A. when making a final determination on the listing proposal of the Cowhead Lake tui chub. Written comments may be submitted until February 16, 2000 to the Service office in the ADDRESSES section.

Author

The primary author of this notice is Catherine Hibbard, U.S. Fish and Wildlife Service (see ADDRESSES section).

Authority

The authority of this action is the Endangered Species Act of 1973 (16 U.S.C. 1531 et seq.).

Elizabeth H. Stevens,
Manager, California/Nevada Operations Office.

[FR Doc. 00-2222 Filed 2-1-00; 8:45 am]

BILLING CODE 4310-55-M